DEPARTMENT OF COMMERCE

National Oceanic and Atmospheric Administration

50 CFR Part 648

[Docket No. 001025298-0298-01; I.D. 101000C]

RIN 0648-AO56

Fisheries of the Northeastern United States; Summer Flounder, Scup, Black Sea Bass, Atlantic Mackerel, Squid and Butterfish Fisheries; Modification of Scup Gear Restricted Areas (GRAs) and Exemptions to the GRAs, and Modifications to the Landing Limits in the Atlantic Mackerel, Squid, and Butterfish Fisheries

AGENCY: National Marine Fisheries Service (NMFS), National Oceanic and Atmospheric Administration (NOAA), Commerce.

ACTION: Proposed rule; request for comments.

SUMMARY: NMFS proposes regulations to modify the GRAs that were established in the Mid-Atlantic Bight to reduce scup bycatch in small-mesh fisheries; exempt Atlantic mackerel fishing from all of the GRA restrictions, and Loligo squid fishing from the November 1 - December 31, 2000, GRA restrictions; modify the procedure and criteria for exempting small-mesh fisheries from the requirements of the GRAs; and modify the landing limits in the Atlantic mackerel, squid and butterfish fisheries. The modification of the GRAs is intended to reduce negative economic impacts on the small-mesh fishing industry, while still ensuring that scup bycatch in small-mesh fisheries is controlled. The modification of the procedure for exempting small-mesh fisheries from the requirements of the GRAs is intended to address problems with the current method of determining exemptions. The modification of the landing limits in the Atlantic mackerel, squid and butterfish fisheries is necessary to discourage directed fishing after the closure of the directed fisheries.

DATES: Comments on this proposed rule must be received on or before November 17, 2000.

ADDRESSES: Written comments on the proposed rule should be sent to Patricia A. Kurkul, Regional Administrator, NMFS, Northeast Regional Office, One Blackburn Drive, Gloucester, MA 01930. Mark the outside of the envelope “Comments on proposed rule to modify scup GRAs.” Comments may also be sent via facsimile (fax) to (978) 281-9371. Comments will not be accepted if submitted via e-mail or the Internet. Send comments on any ambiguity or unnecessary complexity arising from the language used in this proposed rule to the Regional Administrator, Northeast Region. Copies of the Regulatory Impact Review (RIR), the Initial Regulatory Flexibility Analysis (IRFA) contained within the RIR, and the Environmental Assessment (EA) are available from the Northeast Regional Office at the above address. The EA/RIR/IRFA is also accessible via the Internet at http:/www.nero.gov/ro/doc/nr.htm.

FOR FURTHER INFORMATION CONTACT: Richard A. Pearson, Fishery Policy Analyst, at 978-281-9279.

SUPPLEMENTARY INFORMATION: Background Information

Scup are managed by the Mid-Atlantic Fishery Management Council (Council) under the Summer Flounder, Scup and Black Sea Bass FMP. Scup are overfished and overfishing is occurring. The most recent (2000) scup stock assessment concluded that fishing mortality should be reduced substantially and immediately, and that a reduction in fishing mortality from discards would have the most impact on rebuilding the stock.

GRAs were developed by the Council in the specifications for the summer flounder, scup, and black sea bass fisheries, submitted for the 2000 fishing year to reduce mortality from discards in small-mesh fisheries. The Council’s initial recommendation consisted of a series of small, restricted areas that went into place sequentially for 2-week periods. Because of concerns regarding the effectiveness of the Council’s GRAs, the GRAs were revised by NMFS. The final specifications (65 FR 33486, May 24, 2000) implemented larger GRAs, which restrict the use of small-mesh gear for several months. The GRAs are scheduled to become effective November 1, 2000.

Since publication of the final rule implementing the GRAs, many fishing industry members have expressed opposition to the GRAs, claiming that the restrictions would create severe economic hardships. The Council, at its August 14 to17, 2000, meeting, requested that NMFS modify the GRAs because additional analysis of available data indicated that the GRAs could be reduced in size without seriously compromising conservation benefits to scup. The Council requested that the modifications to the GRAs be implemented by November 1, 2000, and carry forward into the 2001 fishing year, so that the economic impacts of the GRAs could be moderated prior to the effective date of the annual specifications. The modified GRAs were analyzed by Council staff and endorsed by the Council’s Scup Monitoring Committee. The Council also recommended the modified GRAs for inclusion in the 2001 specifications for the summer flounder, scup, and black sea bass fisheries, which will be proposed in a separate document in the Federal Register. Copies of a chart depicting these areas appears in the EA/RIR/IRFA and are available from the Regional Administrator upon request (see ADDRESSES). The coordinates of the proposed alternative GRAs are:

Northern Gear Restricted Area I (November 1 to December 31)
Point | N. lat. | W. long.
NGA 1 | 41° 00' | 71° 00'
NGA 2 | 41° 00' | 71° 30'
NGA 3 | 40° 00' | 72° 40'
NGA 4 | 40° 00' | 72° 05'
NGA 5 | 41° 00' | 71° 00'

Northern Gear Restricted Area II (December 1 to January 31)
Point | N. lat. | W. long.
NGA 6 | 40° 00' | 71° 40'
NGA 7 | 40° 00' | 72° 10'
NGA 8 | 39° 00' | 73° 09'
NGA 9 | 39° 00' | 72° 50'
NGA 10 | 40° 00' | 71° 40'

Southern Gear Restricted Area (January 1 to April 30)
Point | N. lat. | W. long.
SGA 1 | 39° 00' | 72° 50'
SGA 2 | 39° 11' | 72° 58'
SGA 3 | 38° 00' | 74° 05'
SGA 4 | 38° 00' | 73° 57'
SGA 5 | 39° 00' | 72° 50'

In support of the motion to modify the GRAs, the Council provided additional analysis to incorporate into the EA/RIR/IRFA. The analysis indicated that the proposed GRAs would have a less negative economic impact on small-mesh fisheries than the existing GRAs, with a relatively modest increase in scup discards. The GRA alternative proposed in this proposed rule is estimated to reduce scup discards by 61 percent, as compared to an estimated 71-percent reduction in discards under the existing, or status quo, GRAs. The Council’s analysis of the proposed modified GRAs indicates that they would reduce vessel revenues approximately 45 percent less than the status-quo GRAs.

As noted in the 31st Stock Assessment Review Committee Report (SARC 31), there is no precise estimate of scup discards, or of the scup fishing mortality rate. Therefore, it is not possible to quantitatively determine the effect of a 10 percent increase in scup discards on the scup fishing mortality rate. In fact, the estimate of a 10 percent difference in scup discards should only be used for a relative comparison of the GRAs, and not to indicate an absolute quantitative difference. This is because there is high uncertainty regarding annual scup discard estimates in the available sea sampling database. The best available scientific information (SARC 31) estimated that scup discards have approached or exceeded landings during the past decade. Discard mortality accounts for approximately 50 percent of overall scup mortality. Therefore, a 10 percent increase in scup discards would equate roughly to a 5 percent increase in overall mortality. NMFS notes that GRAs were established to address discard mortality, while the scup TAL remains the primary measure to control scup mortality associated with landings.

Section 648.122(a)(2) and (b)(2) list the small-mesh fisheries that are not exempt from the restrictions of the southern and northern GRAs, respectively. Vessels fishing for or in possession of all other species of fish and shellfish (e.g., Atlantic sea scallops) are exempt from the GRA restrictions. The Council voted to exempt the Atlantic mackerel small-mesh fishery from the GRAs. This exemption was also recommended by the Scup Monitoring Committee. The best available scientific information indicates that the GRAs may have only a minimal impact in reducing scup discards in the Atlantic mackerel fishery. A summary of an analysis of sea sampling (observer) data for directed mackerel trips (those trips for which the total catch of all species was more than 50 percent mackerel) from 1989 - 2000 conducted by the Council indicates that total scup catches in the mackerel fishery for this time period are less than 1 percent of the total catch. The highest percentage of scup bycatch for any observed directed mackerel trip between 1989 and 2000 was 6.3 percent. This proposed rule would exempt Atlantic mackerel from the mesh-size requirements in all of the GRAs. Exempting the Atlantic mackerel fishery from the proposed GRAs is expected to result in an overall increase in annual revenue for that fishery of $346,000, as compared to mackerel not being exempt from the proposed GRAs.

This proposed rule would also exempt the Loligo squid fishery from the proposed GRAs from November 1 - December 31, 2000. The directed Loligo squid fishery will be closed after October 25, 2000. However, vessels directing effort on other species, and in possession of an open-access squid/butterfish incidental permit, may catch and land up to 2,500 lb (1,134 kg) of Loligo after closure of the directed fishery. Exempting Loligo from the GRA restrictions would allow vessels to possess Loligo caught incidentally. Because any Loligo retained in the GRAs would have been caught by vessels directing effort on other species already exempted from the GRAs because of low scup bycatch rates, the Loligo exemption would not increase scup bycatch. A Loligo exemption has been recommended by the Council in the 2001 specifications for the summer flounder, scup, and black sea bass fisheries, and will be considered along with the other recommendations of the Council. It is being proposed now in order to be effective prior to the implementation date of the 2001 specifications.

In conjunction with the modification to the GRAs, NMFS is proposing to modify the procedures for establishing exemptions to the GRAs. The current regulations specify that a fishery may be exempted from the GRAs if the Regional Administrator, in consultation with the Council, determines that scup caught as bycatch in small-mesh fisheries is less than 10 percent, by weight, of the total catch and that such exemption will not jeopardize fishing mortality objectives for scup. However, it has proven to be very difficult to apply the existing criteria in a meaningful way, because of very limited data. Rather than having the Regional Administrator make such a determination, this proposed rule would require that the Council make such a recommendation to the Regional Administrator and provide justification. This would provide for greater public participation and supporting rationale for any exemption.

NMFS is also proposing to modify the regulations pertaining to landings limits specified for Atlantic mackerel, squid, and butterfish, as recommended by the Council at its August 2000 meeting. The directed Loligo fishery is a limited access fishery and vessel owners had to demonstrate historical participation in the fishery to receive a permit. Those owners unable to obtain the limited access fishery permit could obtain an open access incidental category permit. The landing limits specified for the incidental category were intended to be sufficient to allow landings of squid, mackerel, and butterfish incidentally caught while targeting other species. However, the regulations presently allow multiple landings in a single day. When Loligo are available in quantity in nearshore areas, as they were in the summer of 2000, some incidental category vessels are able to target Loligo and make as many as five landings of their incidental trip limit in a day. The Loligo squid directed fishery is closed when any period quota is achieved and when 95 percent of the annual quota is attained. However, an incidental trip limit of 2,500 lb (1,134 kg) is allowed for the remainder of the quota period or the year after closure of the directed fishery. It was not intended that the trip limit support a multiple trip per day directed fishery. Therefore, NMFS proposes to limit the trip limit to possession or landing during one calendar day to maintain the character of the incidental category and to prevent exceeding the 2000 quota. The Council recommended redefining the incidental allowance as a possession limit, rather than a landing limit, to enhance at-sea enforcement.

Classification

NMFS prepared an EA incorporating by reference the EA prepared by the Council for the 2000 Specifications to the Summer Flounder, Scup and Black Sea Bass FMP, which discusses the impact on the environment as a result of this proposed rule. A copy of the EA may be obtained from NMFS (see ADDRESSES).

This proposed rule has been determined to be not significant for purposes of Executive Order 12866.

NMFS prepared an IRFA as part of the RIR, that describes the impact this proposed rule, if adopted, would have on small entities. A summary of the IRFA follows:

A description of the reasons why action by the agency is being considered and the objectives of the proposed rule are explained in the preamble to this rule and are not repeated here. This action does not contain any collection of information, reporting, or recordkeeping requirements. It will not duplicate, overlap, or conflict with any other Federal rules. This action is taken under authority of the Magnuson-Stevens Act and regulations at 50 CFR part 648.

The proposed GRAs could impact any vessel that would otherwise have fished with small mesh in the affected area. In the analysis of the 2000 specifications for the summer flounder, scup and black sea bass fisheries, the Council estimated that a maximum of 172 vessels (based on 1998 vessel trip report (VTR) data) would be affected by any of the proposed GRAs. This estimate was based on the largest, most restrictive GRAs considered by the Council. Although that alternative was not implemented, the upper limit of affected vessels under any alternative, including the alternative proposed in this proposed rule, is 172. Because the proposed GRAs are smaller than the area analyzed by the Council, the number of impacted vessels is likely to be less than 172. However, it is not possible to quantify how many vessels actually would be impacted by the smaller GRAs, as proposed.

Various levels of reductions in scup discards and landings of small-mesh fisheries are associated with each of the GRA alternatives. The proposed GRAs would reduce scup discards by 61 percent, based on sea sampling data from January 1989 through May 2000. In addition, landings of small-mesh species from the proposed GRAs are expected to be reduced as follows: Herring - 3 percent, mackerel - 11 percent, black sea bass - 42 percent, whiting - 5 percent, and Loligo - 22 percent.

Sea sampling data indicates that the status quo GRAs would reduce scup discards by 71 percent, and would reduce landings of other species as follows: Herring - 8 percent, mackerel - 30 percent, black sea bass - 50 percent, whiting - 17 percent, and Loligo - 38 percent.

Because the proposed GRAs would result in less of a reduction in landings of other species than the status quo GRAs, it would result in less of a reduction in revenues. The proposed GRAs would reduce total annual revenues by $7,177,000, whereas the status quo GRAs would reduce total annual revenues by $13,663,000. Exempting mackerel and Loligo squid from the GRA restrictions would further decrease the reduction in total annual revenues associated with the proposed GRA to $6,825,000.

NMFS prepared a supplemental analysis of the status quo GRAs for the 2000 specifications. The analysis included an exemption for vessels targeting herring and provided a more specific analysis of the status quo GRAs. NMFS’ analysis of the status quo GRAs estimated that 141 vessels could potentially be affected, with an estimated overall annual reduction in revenue of $10.5 million.

In summary, the proposed GRAs result in a 10-percent increase in scup discards as compared to the existing GRAs, but reduce vessel revenues obtained from species caught in other small mesh fisheries by approximately 45 percent less than the existing GRAs.

Estimates regarding revenue reductions do not consider the possible redirection of fishing effort to other open areas due to the GRAs. Therefore, the revenue reduction estimates are likely to be larger than what would actually be experienced in the fishery, since some vessels will likely fish in areas outside the GRAs. However, the extent of this redirection of effort cannot be quantified.

Exempting mackerel from the GRAs could potentially affect any vessel possessing a mackerel permit. According to NMFS permit file data, about 1980 commercial vessels hold an Atlantic mackerel permit. Eleven percent of mackerel landings (1989 - 2000), valued at $346,000 (1998 prices), were derived from the area encompassed by the proposed GRA. Presumably, the economic benefits of these landings would be realized if the small-mesh mackerel fishery were exempted from the GRA restrictions. The alternative (i.e., not exempting mackerel) would prevent fishermen from obtaining such benefits.

The Loligo exemption is expected to produce positive economic impacts on permitted vessels. Although the directed Loligo squid fishery will be closed after October 25, 2000, vessels fishing in the GRAs will be able to land up to 2,500 lb (1,134 kg) per trip. The alternative (i.e., not exempting Loligo) would maintain the status quo and prevent fishing vessels from landing Loligo from the GRAs.

VTR data are not yet available to verify the exact number of vessels making multiple landings of squid, mackerel and butterfish in a single day. However, the best available information indicates that a modification of the requirements of the landing limits in the Atlantic mackerel, squid, and butterfish fisheries is expected to impact approximately 60 vessels that have reportedly made multiple landings, out of a total of 2,737 distinct vessels holding one or more permits in these fisheries.

Most reported multiple daily landings of Loligo this year occurred off Long Island, NY, during late summer, particularly in the vicinity of Shinnecock Inlet. Because this activity has only begun recently, it is difficult to estimate the extent of the practice of making multiple landings in a single day. Therefore, it is difficult to estimate exactly how many trips would be lost as a result of a regulatory change prohibiting the activity, so, an overall assessment of economic impacts is not possible. While it is likely that the specification of one landing per calendar day would affect smaller vessels operating closer to shore to a greater degree than larger offshore vessels, some larger vessels from Rhode Island and New Jersey would also be impacted, as they reportedly engaged in the activity as well. Assuming an average ex-vessel price of $ 0.50/lb ($1.10/kg), a reduction in revenues per vessel ranging from $1,250.00/day (one foregone landing of 2,500 lb (1,134 kg)) - $5000.00/day (four foregone landings of 2,500 lb (1,134 kg)) could occur for certain vessels, primarily during late summer when Loligo are available in nearshore areas. The prohibition of multiple daily landings under the trip limit would reduce the occurrence of quota overages, which result in quota deductions in subsequent quota periods. Short-term economic losses as a result of this measure could be offset by quota that would be available in subsequent periods. There is information that Loligo prices often increase in the autumn and winter seasons, as compared to the summer season when most multiple daily landings occur. If higher autumn and winter prices do occur and landings are redirected from the summer season to autumn and winter because of this proposed measure, then there could be an overall revenue increase. However, some of the approximately 60 vessels that made multiple daily Loligo landings during the summer may not be the same vessels that benefit from increased quotas in the autumn, due to limited range of smaller vessels, inclement weather, or employment in other fisheries. So, foregone Loligo catches as a result of this proposed measure may not always be recouped in subsequent quota periods by the same vessels. Using information from three representative vessels targeting Loligo during the months of July and August, the proposed measure could reduce annual revenues for these vessels by as much as 16 percent. However, since these vessels may land one trip of 2,500 lb per day under the proposed measure, total reduction in annual revenue is likely to be less than the estimated maximum of 16 percent. These data suggest that Loligo is a substantial proportion of a total annual revenues for the affected vessels even in years when multiple trips were not made. However, the amount a vessel depends upon Loligo fishing from year to year varies depending upon the availability of the resource. NMFS does not anticipate any impacts on vessels landing butterfish or mackerel as a result of the change to one landing per day, because there have been no reports of these vessels making multiple landings per day of these species.

The proposal to modify exemption criteria and procedures is an administrative change that is not likely to result in any economic impacts.

A copy of this analysis is available from NMFS (see ADDRESSES). The President has directed Federal agencies to use plain language in their communications with the public, including regulations. To comply with this directive, we seek public comment on any ambiguity or unnecessary complexity arising from the language used in this proposed rule. Such comments should be sent to the Regional Administrator, Northeast Region (see ADDRESSES).

List of Subjects in 50 CFR Part 648

Fisheries, Fishing, Reporting and recordkeeping requirements.

Dated: October 26, 2000.
William T. Hogarth
Deputy Assistant Administrator for fisheries, National Marine Fisheries service.

For the reasons set out in the preamble, 50 CFR part 648 is proposed to be amended as follows:

PART 648—FISHERIES OF THE NORTHEASTERN UNITED STATES

1. The authority citation for part 648 continues to read as follows:

Authority: 16 U.S.C. 1801 et seq.

2. In § 648.14, paragraph (p)(4) is removed and reserved and paragraphs (a)(73), (a)(122), (a)(123), and (p)(3) are revised to read as follows:

§ 648.14 Prohibitions.

(a) * * *

(73) Take, retain, possess, or land more mackerel, squid or butterfish than specified under a notification issued under § 648.22.

(122) Effective January 1, 2000, fish for, possess or land Loligo squid, silver hake, or black sea bass in or from the areas, and during the time periods, described in § 648.122(a), (b), or (c) while in possession of midwater trawl or other trawl nets or netting that do not meet the minimum mesh restrictions or that are modified, obstructed or constricted, if subject to the minimum mesh requirements specified in § 648.122 and § 648.123(a), unless the nets or netting are stowed in accordance with § 648.23(b).

(123) Effective through December 31, 2000, fish for, possess or land silver hake or black sea bass in or from the areas, and during the time periods, described in § 648.122(a), (b), or (c) while in possession of midwater trawl or other trawl nets or netting that do not meet the minimum mesh restrictions or that are modified, obstructed or constricted, if subject to the minimum mesh requirements specified in § 648.122 and § 648.123(a), unless the nets or netting are stowed in accordance with § 648.23(b).

(p) * * *

(3) Take, retain, possess, or land mackerel, squid or butterfish in excess of a possession allowance specified under § 648.22.

3. In § 648.22, paragraph (c) is revised to read as follows:

§ 648.22 Closure of the fishery.

(c) Incidental catches. During the closure of the directed fishery for mackerel, the possession limit for mackerel is 10 percent by weight of the total amount of fish on board. During a period of closure of the directed fishery for Loligo, Illex, or butterfish, the possession limit for Loligo and butterfish is 2,500 lb (1.13 mt) each, and the possession limit for Illex is 5,000 lb (2.27 mt). Vessels may not land more than these limits during any single calendar day, which is defined as the 24-hour period beginning at 0001 hours and ending at 2400 hours.

4. In § 648.122, paragraph (e) is redesignated as (f); and paragraphs (a), (b), (c), and (d) are revised, and a new paragraph (e) is added as follows:

§ 648.122 Season and area restrictions.

(a) Southern Gear Restricted Area. (1) From January 1 through April 30, all trawl vessels in the Southern Gear Restricted Area that fish for or possess non-exempt species as specified in paragraph (a)(2) of this section, must fish with nets that have a minimum mesh size of 4.5 inches (11.43 cm) diamond mesh, applied throughout the codend for at least 75 continuous meshes forward of the terminus of the net, or for codends with fewer than 75 meshes, the minimum-mesh-size codend must be a minimum of one-third of the net, measured from the terminus of the codend to the head rope, excluding any turtle excluder device extension, unless otherwise specified in this section. The Southern Gear Restricted Area is an area bounded by straight lines connecting the following points in the order stated (copies of a chart depicting the area are available from the Regional Administrator upon request):

SOUTHERN GEAR RESTRICTED AREA
Point | N. Lat. | W. Long.
SGA1 | 39°00' | 72°50'
SGA2 | 39°11' | 72°58'
SGA3 | 38°00' | 74°05'
SGA4 | 38°00' | 73°57'
SGA1 | 39°00' | 72°50'

(2) Non-exempt species. Unless otherwise specified in paragraph (d) of this section, the restrictions specified in paragraph (a)(1) of this section apply to vessels in the Southern Gear Restricted Area that are fishing for or in possession of the following non-exempt species: Black sea bass, Loligo squid, and silver hake (whiting). Vessels fishing for or in possession of all other species of fish and shellfish are exempt from these restrictions.

(b) Northern Gear Restricted Area I. (1) From November 1 through December 31, all trawl vessels in the Northern Gear Restricted Area I that fish for or possess non-exempt species as specified in paragraph (b)(2) of this section must fish with nets that have a minimum mesh size of 4.5 inches (11.43 cm) diamond mesh, applied throughout the codend for at least 75 continuous meshes forward of the terminus of the net, or for codends with fewer than 75 meshes, the minimum-mesh-size codend must be a minimum of one-third of the net, measured from the terminus of the codend to the head rope, excluding any turtle excluder device extension, unless otherwise specified in this section. The Northern Gear Restricted Area I is an area bounded by straight lines connecting the following points in the order stated (copies of a chart depicting the area are available from the Regional Administrator upon request):

NORTHERN GEAR RESTRICTED AREA I
Point | N. Lat. | W. Long.
NGA1 | 41°00' | 71°00'
NGA2 | 41°00' | 71°30'
NGA3 | 40°00' | 72°40'
NGA4 | 40°00' | 72°05'
NGA1 | 41°00' | 71°00'

(2) Non-exempt species. Unless otherwise specified in paragraphs (b)(3) and (d) of this section, the restrictions specified in paragraph (b)(1) of this section apply to vessels in the Northern Gear Restricted Area I that are fishing for, or in possession of, the following non-exempt species: Black sea bass, Loligo squid, and silver hake (whiting). Vessels fishing for or in possession of all other species of fish and shellfish are exempt from these restrictions.

(3) Temporarily Exempted Species. From November 1, 2000 - December 31, 2000, the restrictions specified in paragraph (b)(1) of this section do not apply to vessels in the Northern Gear Restricted Area I that are fishing for, or in possession of Loligo squid.

(c) Northern Gear Restricted Area II. (1) From December 1 through January 31, all trawl vessels in the Northern Gear Restricted Area II that fish for or possess non-exempt species as specified in paragraph (c)(2) of this section must fish with nets that have a minimum mesh size of 4.5 inches (11.43 cm) diamond mesh, applied throughout the codend for at least 75 continuous meshes forward of the terminus of the net, or for codends with fewer than 75 meshes, the minimum-mesh-size codend must be a minimum of one-third of the net, measured from the terminus of the codend to the head rope, excluding any turtle excluder device extension, unless otherwise specified in this section. The Northern Gear Restricted Area II is an area bounded by straight lines connecting the following points in the order stated (copies of a chart depicting the area are available from the Regional Administrator upon request):

NORTHERN GEAR RESTRICTED AREA I I
Point | N. Lat. | W. Long.
NGA6 | 40°00' | 71°40'
NGA7 | 40°00' | 72°10'
NGA8 | 39°00' | 73°09'
NGA9 | 39°00' | 72°50'
NGA6 | 40°00' | 71°40'

(2) Non-exempt species. Unless otherwise specified in paragraphs (c)(3) and (d) of this section, the restrictions specified in paragraph (c)(1) of this section apply to vessels in the Northern Gear Restricted Area II that are fishing for, or in possession of, the following non-exempt species: Black sea bass, Loligo squid, and silver hake (whiting). Vessels fishing for or in possession of all other species of fish and shellfish are exempt from these restrictions.

(3) Temporarily Exempted Species. From December 1, 2000 - December 31, 2000, the restrictions specified in paragraph (c)(1) of this section do not apply to vessels in the Northern Gear Restricted Area II that are fishing for, or in possession of Loligo squid.

(d) Transiting. Vessels that are subject to the provisions of the Southern and Northern GRAs, as specified in paragraphs (a), (b) and (c) of this section, respectively, may transit these areas provided that trawl net codends on board of mesh size less than that specified in paragraphs (a), (b) and (c) of this section are not available for immediate use and are stowed in accordance with the provisions of § 648.23(b).

(e) Addition or deletion of exemptions. The MAFMC may recommend to the Regional Administrator, through the framework procedure specified in § 648.108(a), additions or deletions to exemptions for fisheries other than scup. A fishery may be restricted or exempted by area, gear, season, or other means determined to be appropriate to reduce bycatch of scup.

[FR Doc. 00-28053 Filed 11-01-00; 8:45 am]

BILLING CODE: 3510-22-S